DEPARTMENT OF COMMERCE

Census Bureau

Boundary and Annexation Survey (BAS)

ACTION: Proposed collection; comment request.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A)).

DATES: Written comments must be submitted on or before February 13, 2007.

ADDRESSES: Direct all written comments to Diana Hynek, Departmental Paperwork Clearance Officer, Department of Commerce, Room 6625, 14th and Constitution Avenue, NW., Washington, DC 20230 (or via e-mail to DHynek@doc.gov).

FOR FURTHER INFORMATION CONTACT: Requests for additional information or copies of the information collection forms and instructions should be directed to Laura Waggoner, Geography Division, U.S. Census Bureau, Washington, DC 20233-7400. In addition, you can contact her by calling (301) 763-1099, or sending an e-mail to geo.bas@census.gov.

SUPPLEMENTARY INFORMATION:

I. Abstract

The Census Bureau conducts the Boundary and Annexation Survey (BAS) to collect and maintain information about the inventory of the legal boundaries for, and the legal actions affecting the boundaries of counties and equivalent governments, incorporated places, minor civil divisions, Census Areas of Alaska, Hawaiian Homelands, and federally recognized legal American Indian and Alaska Native areas (including the Alaska Native Regional Corporations). This information provides an accurate identification of geographic areas for the Census Bureau to use in conducting the decennial and economic censuses and ongoing surveys such as the American Community Survey (ACS). The BAS supports the following additional programs:

• Population Estimates Program.

• Special Census.

• Geographic Update Population Certification Program.

• Other statistical programs of the Census Bureau and the legislative programs of the Federal Government.

No other Federal agency collects this data, nor is there a standard for collection of this information at the state level. The Census Bureau's BAS is a unique boundary survey providing a standard result for use by Federal, State, local, and tribal governments and by commercial, private, and public organizations. The Census Bureau integrates the information collected in the BAS into the MAF/TIGER database. The MAF component of the database is the Census Bureau's permanent list of addresses for individual living quarters. The TIGER component is a computer file that contains geographic information representing the position of boundaries, roads, rivers, railroads, and other census-required map features and attributes.

Through the BAS, the Census Bureau asks each government official to provide updates to their boundaries and to review materials for their jurisdiction to verify the correctness of the information portrayed. County officials are asked to provide changes to the inventory of governments and their boundaries.

The Census Bureau may enter into agreements with individual states to modify the list of minor civil divisions and/or incorporated places included in the BAS to reflect only entities with boundary changes. In addition, the Census Bureau includes each newly incorporated place in the year following notification of its incorporation. Every year, the BAS includes a single respondent request for the State of Alaska and the Commonwealth of Puerto Rico (including status and updates for municipio, barrio, barrio-pueblo, and subbarrio boundaries). The State of Hawaii provides updates for the Hawaiian homeland boundary and status information.

II. Method of Collection

The Census Bureau has developed several methods to collect information on status and updates for legal boundaries. These methods are:

• Consolidation agreements.

• Advanced response.

• Traditional paper submission.

• Digital submission.

• Master Address File/Topologically Integrated Geographic Encoding Referencing (MAF/TIGER) partnership software.

• Internet (Web BAS).

The government officials from state governments have an opportunity to participate in consolidation agreements to reduce the burden of response for their local governments. If a state government has legislation requiring local governments to report all legal boundary updates to a state agency (including a map of the annexed area), the state has the option to provide all the updates for their counties (and all associated governments within each county). The state provides the Census Bureau with a list of counties where the state agrees to provide a consolidated update of boundary changes for these counties and all entities within them. The Census Bureau notifies the governments within the counties that the state will be submitting the boundary updates for them and as a reminder to submit their updates to the state.

State governments that have legislation requiring governments to report all legal boundary updates to a state agency will also have the opportunity to participate in a consolidation agreement. The state updates the list of minor civil divisions and/or incorporated places that will be surveyed to include only those entities known by the state as having boundary changes. The Census Bureau sends BAS materials to those local governments.

If a county government has legislation requiring local governments to report all legal boundary updates to the county, or if the local governments agree that the county will provide the updates, then the Census Bureau will provide materials only to the county and send a notification to the local governments reminding them to send their updates to the county.

Another method of collection is advanced response, which involves an announcement letter and a one-page form for the state and county governments who do not have a consolidation agreement. Under advanced response, counties, tribes and local governments indicate whether or not they have boundary changes to report and provide a current contact person. The advanced response method reduces cost and respondent burden through savings on materials and effort. All governments receive this notification with the exception of newly incorporated governments, governments with state or county agreements, and governments who participated in other Census Bureau programs such as Geographically Updated Population Certification Program or Special Census.

If a government requests materials through advanced response, they may choose to receive these materials as a traditional paper package or one of three digital media types (MAF/TIGER Partnership Software, Digital BAS, or Web BAS).

The traditional paper package contains large-format maps, printed forms and supplies to complete the survey. The respondent completes the BAS form and draws the boundary updates on the maps using pencils provided in the package.

The MAF/TIGER Partnership Software is a method in which the respondent installs software on their personal computer. The Census Bureau provides the software and spatial data to make their boundary updates. The minimum requirement for this software is Windows 98, as well as a media burner (such as CD-ROM or DVD). The key to this approach—and to all the digital methods—is the correction and update of Census Bureau spatial data.

Another digital response option is Digital Submission. This option allows the respondent to complete the BAS electronically through a digital file. The Census Bureau provides spatial data to update boundaries to their correct spatial location. The entity submits the updated file on electronic media, such as CD-ROM or DVD, or through File Transfer Protocol (FTP) on the Internet.

The last digital response option is Web BAS. The Census Bureau provides the participating government with a password to access the BAS program through the Internet. The respondent updates both their forms and maps using a single Internet site.

A BAS package includes the following items for each respondent:

1. Introductory letter from the Director of the Census Bureau.

2. Appropriate BAS Form(s) that contains entity-specific identification information.

a. BAS-1—incorporated places.

b. BAS-2—counties, parishes, boroughs, city and boroughs.

c. BAS-3—minor civil divisions.

d. BAS-4—newly incorporated places or newly activated incorporated places.

e. BAS-5—American Indian and Alaska Native Areas.

3. BAS Respondent Guide.

4. Set of maps or other media showing the current boundary of the government.

5. Return postage-paid envelope to submit boundary changes.

6. Postcard to notify the Census Bureau of no changes to the boundary.

7. Supplies for updating paper maps.

A local contact from each government verifies the legal boundary, and then provides boundary changes and updated contact information. The official signs the materials, verifies the forms and returns the information to the Census Bureau. The key dates for governments are as follows:

1. Advanced response is e-mailed, faxed or mailed to the local contact in September/October of each year.

2. BAS package of materials is shipped during the month of January of each year.

3. Requests to change the method of participation (i.e., paper to digital submission) are due February 15th of each year.

4. Responses for inclusion in the ACS Sampling and Population Estimation Program tabulation are due April 1st of each year.

III. Data

Office of Management and Budget (OMB) Number: 0607-0151.

Form Numbers: BAS-1, BAS-2, BAS-3, BAS-4, and BAS-5.

Type of Review: Regular submission.

Affected Public: State, county, local and tribal governments.

Estimated Number of Respondents:

Advanced response | 32,500
Packages with changes | 13,000
Packages with no changes or no response | 12,875

Estimated Total Annual Burden Hours:

Estimated Time Per Response
Advanced response | 30 minutes
Boundary updates | 6 hours
No boundary updates | 4 hours

Total Hours Per Year
| Hours
Advanced response | 16,250
Packages with changes | 78,000
Packages with no changes or no response | 51,500
Total | 145,750

Estimated Total Annual Cost: $3,041,803.

Respondent's Obligation: Voluntary.

Legal Authority: Title 13, U.S.C. 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 11, 2006.
Madeleine Clayton,
Management Analyst, Office of the Chief Information Officer.

[FR Doc. E6-21320 Filed 12-14-06; 8:45 am]

BILLING CODE 3510-07-P